DEPARTMENT OF HOMELAND SECURITY

Coast Guard

33 CFR Parts 101 and 105

[Docket No. USCG-2013-1087]

Seafarers' Access to Maritime Facilities

Correction

In proposed rule document 2015-12657 appearing on pages 30189-30190 in the issue of Wednesday, May 27, 2015, make the following correction(s):

On page 30189, in the DATES section, in the fourth line, “July 1, 2015” should read “July 27, 2015”.

[FR Doc. C1-2015-12657 Filed 6-8-15; 8:45 am]

BILLING CODE 1505-01-P